DEPARTMENT OF TRANSPORTATION

Office of the Secretary

Notice of Applications for Certificates of Public Convenience and Necessity and Foreign Air Carrier Permits Filed Under Subpart B (Formerly Subpart Q) During the Week Ending January 21, 2005

The following Applications for Certificates of Public Convenience and Necessity and Foreign Air Carrier Permits were filed under Subpart B (formerly Subpart Q) of the Department of Transportation's Procedural Regulations (see 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-20149.

Date Filed: January 21, 2005.

Due Date for Answers, Conforming Applications, or Motion to Modify Scope: February 11, 2005.

Description: Application of Kalitta Air, L.L.C., requesting a certificate of public convenience and necessity authorizing it to operate scheduled foreign air transportation of property and mail between the United States and various foreign points for which it currently holds exemption authority, as well as several other foreign points to which it may initiate service in the near future.

Renee V. Wright,
Acting Program Manager, Alternate Federal Register Liaison.

[FR Doc. 05-2759 Filed 2-11-05; 8:45 am]

BILLING CODE 4910-62-P